DEPARTMENT OF DEFENSE

Department of the Army

Notice of Intent To Prepare an Environmental Impact Statement (EIS) for the Destruction of Non-Stockpile Chemical Warfare Materiel at Pine Bluff Arsenal, AR

AGENCY: Department of the Army, DoD.

ACTION: Notice of intent.

SUMMARY: The Department of Army announces its intent to prepare a site-specific EIS on the potential impacts of the destruction of the non-stockpile chemical warfare materiel (CWM) stored at Pine Bluff Arsenal and to initiate the public scoping process for the EIS. The EIS will examine potential environmental impacts of the alternatives of various destruction options. The destruction activities proposed for Pine Bluff Arsenal will have the following functions: (1) Munitions Accessing: Various accessing technologies will be assessed to include Drill and Drain, Sawing, Shearing and Reverse Assembly; (2) Chemical Agent Treatment: Technologies under consideration for agent destruction include Chemical Neutralization and Incineration; (3) Non-Agent Treatment: Industrial chemicals and binary agent precursors may be treated with the same technologies as the agents or neutralized agent waste, or may be shipped without processing to a Treatment, Storage, and Disposal Facility; (4) Munition Body Component and Explosives Treatment: Munition body decontamination and destruction technologies under consideration include Detonation, Shredding, Cutting (Saws and Fluid Jet), Plasma Arc, and Demilitarization in a Deactivation Furnace; (5) Post-treatment/Disposal of Liquid Waste: Technologies under consideration for post-treatment and disposal of liquid waste include Bio-Treatment, Plasma Arc, Gas Phase Chemical Reduction, Supercritical Water Oxidation, Incineration, Solidification and Stabilization, and Processing at a Treatment, Storage, and Disposal Facility; (6) Treatment/Disposal of Solid Waste: Technology under consideration for treatment/disposal of solid wastes include Plasma Arc, Gas Phase Chemical Reduction, and Landfilling.

The alternatives to be analyzed in the EIS are: (1) Building one or more new facilities, (2) using the Pine bluff Chemical Agent Destruction Facility currently under construction, (3) bringing the mobil treatment systems currently under development by the Product Manager for Non-Stockpile Chemical Materiel to Pine Bluff Arsenal and using them, (4) using non-developmental items, and (5) no-action (continued storage of the non-stockpile chemical warfare materiel at the Arsenal).

ADDRESSES: Written comments may be forwarded to the Program Manager for Chemical Demilitarization, Public Outreach and Information Office (ATTN: Mr. Jeff Lindblad), Aberdeen Proving Ground, MD 21010-4005.

FOR FURTHER INFORMATION CONTACT: Mr. Jeff Lindblad at 410-436-4555, by fax at 410-436-5122, or by email at jeffrey.lindblad@pmcd.apgea.army.mil.

SUPPLEMENTARY INFORMATION: In compliance with the National Environmental Policy Act (Title 40, CFR Parts 1500-1508), the Army will prepare an EIS to assess the environmental impacts of the destruction of the non-stockpile chemical warfare materiel stored at the Pine Bluff Arsenal. Public Law and international treaty mandate the destruction of most of the non-stockpile chemical warfare materiel. This EIS will analyze the potential impacts of the various methods of destroying the items that are not part of the unitary stockpile. This site-specific EIS continues the process that began when Congress established the Chemical Demilitarization Program in Public Law 99-145 (1985).

The specific purpose of the current analysis is to determine the environmental impacts of the alternatives that could accomplish the destruction of the non-stockpile chemical warfare materiel currently stored at the Arsenal, including the alternatives of using the technologies successfully demonstrated by the Chemical Stockpile Disposal Project, the Alternative Technologies and Approaches Project, the Assembled Chemical Weapons Assessment program, and any non-developmental items.

The Army will hold scoping meetings to aid in determining the significant issues related to the proposed action which will be addressed in the EIS. The scoping process will incorporate public participation, including Federal, State of Arkansas, and local agencies, as well as residents within the affected environment. The dates, times, and locations of scoping meetings will be announced in appropriate news media at least 15 prior to these meetings.

Dated: August 1, 2001.
Raymond J. Fatz,
Deputy Assistant Secretary of the Army (Environment, Safety, and Occupational Health) OASA(I&E).

[FR Doc. 01-19843 Filed 8-7-01; 8:45 am]

BILLING CODE 3710-08-M